FEDERAL COMMUNICATIONS COMMISSION

47 CFR Part 1

[MD Docket Nos. 21-190 and 20-105; Report No. 3182; FR ID 46762]

Petitions for Reconsideration of Action in Rulemaking Proceeding

AGENCY: Federal Communications Commission.

ACTION: Petition for reconsideration.

SUMMARY: Petitions for Reconsideration (Petitions) have been filed in the Commission's rulemaking proceeding by Ms. Elisabeth Neasmith, on behalf of Telesat Canada, David Goldman, on behalf of Space Exploration Holdings, LLC, Nickolas G. Spina, on behalf of Kepler Communications Inc., and by Eric Graham, on behalf of WorldVu Satellites Limited (d/b/a OneWeb) (NGSO Satellite Coalition).

DATES: Oppositions to the Petitions must be filed on or before October 4, 2021. Replies to oppositions must be filed on or before October 12, 2021.

ADDRESSES: Federal Communications Commission, 45 L Street NE, Washington, DC 20554.

FOR FURTHER INFORMATION CONTACT: Regina Brown, Attorney-Advisor, Financial Operations, Office of the Managing Director, (202) 418-0792 or via email at regina.brown@fcc.gov.

SUPPLEMENTARY INFORMATION: This is a summary of the Commission's document, Report No. 3182, released September 1, 2021. The full text of the Petitions can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Subject: In the Matter of Assessment and Collection of Regulatory Fees for Fiscal Year 2021, MD Docket No. 21-190; Assessment and Collection of Regulatory Fees for Fiscal Year 2020, MD Docket No. 20-105, Report and Order and Notice of Proposed Rulemaking, 86 FR 26677, May 17, 2021. This document is being published pursuant to 47 CFR 1.429(e). See also 47 CFR 1.4(b)(1) and 1.429(f), (g).

Number of Petitions Filed: 2.

Federal Communications Commission.
Marlene Dortch,
Secretary, Office of the Secretary.

[FR Doc. 2021-20143 Filed 9-16-21; 8:45 am]

BILLING CODE 6712-01-P